DEPARTMENT OF HOMELAND SECURITY

Federal Emergency Management Agency

[Docket ID FEMA-2019-0002; Internal Agency Docket No. FEMA-B-1977]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 9, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1977, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Logan County, Colorado and Incorporated Areas
Project: 19-08-0005S Preliminary Date: April 12, 2019
City of Sterling | Public Works Office, 421 North 4th Street, Sterling, CO 80751.
Town of Crook | Town Hall, 212 4th Street, Crook, CO 80726.
Town of Iliff | Town Hall, 405 West 2nd Avenue, Iliff, CO 80736.
Town of Merino | Town Hall, 208 Colorado Avenue, Merino, CO 80741.
Unincorporated Areas of Logan County | Logan County Planning and Zoning Department, 315 Main Street, Sterling, CO 80751.
Morgan County, Colorado and Incorporated Areas
Project: 19-08-0007S Preliminary Date: May 29, 2019
City of Fort Morgan | Planning and Zoning Office, 710 East Railroad Avenue, Fort Morgan, CO 80701.
Unincorporated Areas of Morgan County | Morgan County Planning and Zoning Department, 231 Ensign Street, Fort Morgan, CO 80701.
Sedgwick County, Colorado and Incorporated Areas
Project: 19-08-0008S Preliminary Date: May 29, 2019
Town of Julesburg | Town Hall, 100 West 2nd Street, Julesburg, CO 80737.
Town of Ovid | Town Hall, 211 Main Street, Ovid, CO 80744.
Town of Sedgwick | Town Hall, 29 Main Avenue, Sedgwick, CO 80749.
Unincorporated Areas of Sedgwick County | Sedgwick County Courthouse, 315 Cedar Street, Julesburg, CO 80737.
Washington County, Colorado and Incorporated Areas
Project: 19-08-0009S Preliminary Date: May 29, 2019
Town of Akron | Town Hall, 245 Main Avenue, Akron, CO 80720.
Town of Otis | Town Hall, 102 South Washington Street, Otis, CO 80743.
Unincorporated Areas of Washington County | Washington County Courthouse, 150 Ash Avenue, Akron, CO 80720.
Gulf County, Florida and Incorporated Areas
Project: 11-04-1985S Preliminary Date: May 2, 2016 and August 9, 2019
City of Port St. Joe | City Hall, 305 Cecil G. Costin, Sr. Boulevard, Port St. Joe, FL 32456.
City of Wewahitchka | City Hall, 318 South 7th Street, Wewahitchka, FL 32465.
Unincorporated Areas of Gulf County | Gulf County Planning Department, 1000 Cecil G. Costin, Sr. Boulevard, Room 312, Port St. Joe, FL 32456.
Northumberland County, Pennsylvania (All Jurisdictions)
Project: 15-03-0140S Preliminary Date: April 9, 2019
Borough of Herndon | Borough Building, 278 North Main Street, Herndon, PA 17830.
Borough of Northumberland | Borough Building, 175 Orange Street, Northumberland, PA 17857.
Borough of Riverside | Borough Building, 415 Dewart Street, Riverside, PA 17868.
Borough of Snydertown | Snydertown Borough Building, 61 South Main Street, Sunbury, PA 17801.
City of Shamokin | City Hall, 47 East Lincoln Street, Shamokin, PA 17872.
City of Sunbury | Municipal Building, 225 Market Street, Sunbury, PA 17801.
Township of Coal | Municipal Building, 805 West Lynn Street, Coal Township, PA 17866.
Township of Jackson | Jackson Township Hall, 145 Jackson Township Road, Herndon, PA 17830.
Township of Jordan | Jordan Township Building, 444 Jordan Township Road, Herndon, PA 17830.
Township of Lower Augusta | Lower Augusta Township Building, 609 Hallowing Run Road, Sunbury, PA 17801.
Township of Lower Mahanoy | Lower Mahanoy Township Building, 550 Hickory Road, Dalmatia, PA 17017.
Township of Mount Carmel | Township Office, 300 Laurel Street, Mount Carmel, PA 17851.
Township of Point | Point Township Building, 759 Ridge Road, Northumberland, PA 17857.
Township of Ralpho | Ralpho Municipal Building, 206 South Market Street, Suite 1, Elysburg, PA 17824.
Township of Rockefeller | Rockefeller Municipal Building, 538 Seven Points Road, Sunbury, PA 17801.
Township of Rush | Rush Municipal Building, 2303 Center Road, Danville, PA 17821.
Township of Shamokin | Shamokin Township Municipal Building, 138 Old Reading Road, Sunbury, PA 17801.
Township of Upper Augusta | Upper Augusta Township Building, 2087 Snydertown Road, Sunbury, PA 17801.
Township of West Chillisquaque | West Chillisquaque Township Building, 485 Railroad Street, Montandon, PA 17850.
Snyder County, Pennsylvania (All Jurisdictions)
Project: 15-03-0140S Preliminary Date: March 29, 2019
Borough of Selinsgrove | Borough Office, 1 North High Street, Selinsgrove, PA 17870.
Borough of Shamokin Dam | Municipal Building, 42 West 8th Avenue, Shamokin Dam, PA 17876.
Township of Chapman | Chapman Township Municipal Office, 1151 Wagner Hill Road, Port Trevorton, PA 17864.
Township of Monroe | Monroe Township Municipal Building, 39 Municipal Drive, Selinsgrove, PA 17870.
Township of Penn | Penn Township Municipal Building, 228 Clifford Road, Selinsgrove, PA 17870.
Township of Perry | Perry Town Hall, 18 Hoffman Hill Road, Mount Pleasant Mills, PA 17853.
Township of Union | Union Township Municipal Building, 1510 McNess Road, Port Trevorton, PA 17864.

[FR Doc. 2019-26423 Filed 12-6-19; 8:45 am]

BILLING CODE 9110-12-P